DEPARTMENT OF ENERGY

Federal Energy Regulatory Commission

Combined Notice of Filings #1

Take notice that the Commission received the following electric corporate filings:

Docket Numbers: EC16-73-000.

Applicants: Big Sandy Peaker Plant, LLC, High Desert Power Project, LLC, TPF Generation Holdings, LLC, Wolf Hills Energy, LLC.

Description: Joint Application for Authorization of Transaction under Section 203 of Big Sandy Peaker Plant, LLC, et al.

Filed Date: 2/16/16.

Accession Number: 20160216-5407.

Comments Due: 5 p.m. ET 3/8/16.

Take notice that the Commission received the following exempt wholesale generator filings:

Docket Numbers: EG16-54-000.

Applicants: Solar Star California XLI, LLC.

Description: Notice of Self-Certification of Exempt Wholesale Generator Status of Solar Star California XLI, LLC.

Filed Date: 2/9/16.

Accession Number: 20160209-5269.

Comments Due: 5 p.m. ET 3/1/16.

Take notice that the Commission received the following electric rate filings:

Docket Numbers: ER16-116-001.

Applicants: ISO New England Inc., Eversource Energy Service Company (as agent).

Description: Tariff Amendment: Eversource Energy Service Company—Docket No. ER16-116 to be effective 4/16/2015.

Filed Date: 2/17/16.

Accession Number: 20160217-5000.

Comments Due: 5 p.m. ET 3/9/16.

Docket Numbers: ER16-952-000.

Applicants: Duke Energy Carolinas, LLC.

Description: § 205(d) Rate Filing: Third Amended Lockhart PPA, RS No. 332 to be effective 1/1/2015.

Filed Date: 2/17/16.

Accession Number: 20160217-5079.

Comments Due: 5 p.m. ET 3/9/16.

Docket Numbers: ER16-953-000.

Applicants: Duke Energy Carolinas, LLC.

Description: § 205(d) Rate Filing: Third Amended Due West PPA, RS No. 329 to be effective 1/1/2015.

Filed Date: 2/17/16.

Accession Number: 20160217-5080.

Comments Due: 5 p.m. ET 3/9/16.

Docket Numbers: ER16-954-000.

Applicants: ISO New England Inc., New England Power Pool Participants Committee.

Description: § 205(d) Rate Filing: DARD Pump Parameter Changes to be effective 3/31/2017.

Filed Date: 2/17/16.

Accession Number: 20160217-5108.

Comments Due: 5 p.m. ET 3/9/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2016.
Nathaniel J. Davis, Sr.,
Deputy Secretary.

[FR Doc. 2016-04155 Filed 2-25-16; 8:45 am]

BILLING CODE 6717-01-P